DEPARTMENT OF DEFENSE

Office of the Secretary

Defense Science Board

ACTION: Notice of advisory committee meetings.

SUMMARY: The Defense Science Board (DSB) Task Force on Options for Acquisition of the Advanced Targeting Pod and Advanced Technology FLIR Pod (ATP/ATFLIR) will meet in closed session on January 17-18, 2001, and January 26, 2001, at Strategic Analysis Inc., 3601 Wilson Boulevard, Arlington, VA.

The mission of the DSB is to advise the Secretary of Defense and the Under Secretary of Defense for Acquisition, Technology & Logistics on scientific and technical matters as they affect the perceived needs of the Department of Defense. At these meetings, the Task Force will review and evaluate the Department's options for acquisition of third generation Forward Looking Infrared (FLIR) targeting pods for the Air Force and the Navy. They will also consider the state of technical maturity of all the concepts and pods available, as well as the realm of the schedules and costs in view of other service flight program software, aircraft integration, and service specific requirements.

In accordance with section 10(d) of the Federal Advisory Committee Act, Public Law 92-463, as amended (5 U.S.C. App. II), it has been determined that these Defense Science Board meetings, concern matters listed in 5 U.S.C. 552b(c)(1), and that accordingly these meetings will be closed to the public.

Due to critical mission requirements and the short timeframe to accomplish this review, there is insufficient time to provide timely notice required by section 10(a)(2) of the Federal Advisory Committee Act and subsection 101-6.1015(b) of the GSA Final Rule on Federal Advisory Committee Management, 41 CFR part 101-6, which further requires publication at least 15 calendar days prior to the first meeting of the Task Force on January 17-18, 2001.

Dated: January 17, 2001.
L.M. Bynum,
Alternate OSD Federal Register Liaison Officer, Department of Defense.

[FR Doc. 01-1882 Filed 1-22-01; 8:45 am]

BILLING CODE 5001-10-M